DEPARTMENT OF AGRICULTURE

Animal and Plant Health Inspection Service

[Docket No. APHIS-2017-0083]

General Conference Committee of the National Poultry Improvement Plan; Solicitation for Membership

AGENCY: Animal and Plant Health Inspection Service, USDA.

ACTION: Notice of solicitation for membership.

SUMMARY: We are giving notice that the Secretary of Agriculture is soliciting nominations for the election of a member at-large and regional members and their alternates for the General Conference Committee of the National Poultry Improvement Plan.

DATES: Consideration will be given to nominations received on or before May 1, 2018.

ADDRESSES: Completed nomination forms should be sent to the person listed under FOR FURTHER INFORMATION CONTACT.

FOR FURTHER INFORMATION CONTACT: Dr. Denise L. Brinson, Senior Coordinator, National Poultry Improvement Plan, VS, APHIS, USDA, 1506 Klondike Road, Suite 101, Conyers, GA 30094; phone (770) 922-3496; fax (770-922-3498; Denise.l.brinson@aphis.usda.gov.

SUPPLEMENTARY INFORMATION:

The General Conference Committee (the Committee) of the National Poultry Improvement Plan (NPIP) is the Secretary's Advisory Committee on poultry health. The Committee serves as a forum for the study of problems relating to poultry health and, as necessary, makes specific recommendations to the Secretary concerning ways the U.S. Department of Agriculture may assist the industry in addressing these problems. The Committee assists the Department in planning, organizing, and conducting the Biennial Conference of the NPIP. The Committee recommends whether new proposals should be considered by the delegates to the Biennial Conference and serves as a direct liaison between the NPIP and the United States Animal Health Association.

The Committee consists of an elected member-at-large who is an NPIP participant and an elected member (and alternate) from each of the six U.S. regions represented on the Committee. Terms will expire for three current regional members of the Committee, as well as the member-at-large, in June 2018. We are soliciting nominations from interested organizations and individuals to replace the member-at-large and members from the North Atlantic (Connecticut, Maine, Massachusetts, New Hampshire, New Jersey, New York, Pennsylvania, Rhode Island, and Vermont), East North Central (Illinois, Indiana, Michigan, Ohio, and Wisconsin), and Western (Alaska, Arizona, California, Colorado, Hawaii, Idaho, Montana, Nevada, New Mexico, Oregon, Utah, Washington, and Wyoming) regions.

Member selection is determined by a majority vote of the NPIP delegates from the respective regions. The member-at-large will be elected by a majority vote of all official delegates. There must be at least two nominees for each position. Persons interested in serving on the Committee or nominating another individual to serve must complete Form AD-755, which is available on the internet at https://www.ocio.usda.gov/document/ad-755 or may be obtained by contacting the person listed under FOR FURTHER INFORMATION CONTACT.

To ensure the recommendations of the Committee have taken into account the needs of the diverse groups served by the Department, membership should include, to the extent practicable, individuals with demonstrated ability to represent underrepresented groups (minorities, women, and persons with disabilities). At least one nominee from each of the three regions, as well as for the member-at-large, must be from an underrepresented group. The voting will be by secret ballot of official delegates, and the results will be recorded.

Done in Washington, DC, this 7th day of December 2017.
Kevin Shea,
Administrator, Animal and Plant Health Inspection Service.

[FR Doc. 2017-26787 Filed 12-12-17; 8:45 am]

BILLING CODE 3410-34-P